DEPARTMENT OF TRANSPORTATION

Federal Aviation Administration

14 CFR Part 39

[Docket No. 2001-NM-387-AD]

RIN 2120-AA64

Airworthiness Directives; McDonnell Douglas Model DC-9-81 (MD-81), DC-9-82 (MD-82), DC-9-83 (MD-83), DC-9-87 (MD-87), and MD-88 Airplanes

AGENCY: Federal Aviation Administration, DOT.

ACTION: Supplemental notice of proposed rulemaking; reopening of comment period.

SUMMARY: This document revises an earlier proposed airworthiness directive (AD), applicable to certain McDonnell Douglas airplane models, that would have required a one-time inspection for chafing or signs of arcing of the wire bundle for the auxiliary hydraulic pump, and other specified and corrective actions, as applicable. This new action revises the proposed rule by referring to revised procedures for performing the corrective and other specified actions. The actions specified by this new proposed AD are intended to prevent shorted wires or arcing at the auxiliary hydraulic pump, which could result in loss of auxiliary hydraulic power, or a fire in the wheel well of the airplane. This action is intended to address the identified unsafe condition.

DATES: Comments must be received by May 27, 2005.

ADDRESSES: Submit comments in triplicate to the Federal Aviation Administration (FAA), Transport Airplane Directorate, ANM-114, Attention: Rules Docket No. 2001-NM-387-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-387-AD” in the subject line and need not be submitted in triplicate. Comments sent via the Internet as attached electronic files must be formatted in Microsoft Word 97 or 2000 or ASCII text.

The service information referenced in the proposed rule may be obtained from Boeing Commercial Airplanes, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Elvin Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-387-AD.” The postcard will be date stamped and returned to the commenter.

Availability of NPRMs

Any person may obtain a copy of this NPRM by submitting a request to the FAA, Transport Airplane Directorate, ANM-114, Attention: Rules Docket No. 2001-NM-387-AD, 1601 Lind Avenue, SW., Renton, Washington 98055-4056.

Discussion

A proposal to amend part 39 of the Federal Aviation Regulations (14 CFR part 39) to add an airworthiness directive (AD) applicable to certain McDonnell Douglas Model DC-9-81 (MD-81), DC-9-82 (MD-82), DC-9-83 (MD-83), DC-9-87 (MD-87), and MD-88 airplanes, was published as a notice of proposed rulemaking (NPRM) in the Federal Register on June 2, 2003 (68 FR 32693). That NPRM would have required a one-time inspection for chafing or signs of arcing of the wire bundle for the auxiliary hydraulic pump, follow-on actions, and corrective actions if necessary. That NPRM was prompted by reports of shorted wires and evidence of arcing on the power cables of the auxiliary hydraulic pump. That condition, if not corrected, could result in loss of auxiliary hydraulic power, or a fire in the wheel well of the airplane.

Actions Since Issuance of Previous Proposal

Since the issuance of the original NPRM, we have received reports that certain operators were unable to accomplish certain corrective and other specified actions in accordance with Boeing Alert Service Bulletin MD80-29A068, Revision 02, dated November 19, 2002, which the original NPRM referred to as the appropriate source of service information for the proposed actions in that NPRM. Investigation revealed that certain instructions and illustrations in that service bulletin were missing or inconsistent.

Explanation of New Relevant Service Information

Boeing has issued Alert Service Bulletin MD80-29A070, dated August 3, 2004. This service bulletin states that it supersedes but does not cancel the actions specified in Boeing Alert Service Bulletin MD80-29A068. Boeing Alert Service Bulletin MD80-29A070 corrects part numbers, clarifies instructions, revises illustrations, and incorporates instructions for additional wiring routing and protection. Specifically, that service bulletin describes procedures for doing a one-time visual inspection for chafing or signs of arcing of the wire bundle for the auxiliary hydraulic pump. The inspection area begins at the P1-32 plug and ends at the point of exit at the fuel tank bulkhead. The service bulletin also describes procedures for the following corrective and other specified actions:

• Repairing chafed or damaged wiring, or replacing it with new wiring, as applicable.

• Installing protective sleeving on the wire bundle.

• Changing the routing of the wire bundle for the auxiliary hydraulic pump and adding additional clamps.

• Adding snap tubing on a portion of the wire bundle.

• Replacing the existing connector backshell with a 90-degree backshell, if necessary.

Doing the actions specified in the service bulletin is intended to adequately address the identified unsafe condition.

Clarification of Inspection Terminology

Boeing Alert Service Bulletin MD80-29A070 specifies visually inspecting the wire bundle for the auxiliary hydraulic pump for chafing or signs of arcing. This supplemental NPRM refers to this inspection as a general visual inspection. Note 1 of this supplemental NPRM defines a general visual inspection.

Comments

We have considered the comments received in response to the original NPRM.

Support for the Proposed AD

One commenter supports the original NPRM.

Request To Revise Cost Impact Estimate

One commenter states that it expects the cost of accomplishing the proposed AD on its 362 affected airplanes to be approximately $198,000, or $547 per airplane. Because the commenter's figure is significantly higher than the $288-per-airplane cost estimated in the original NPRM, we infer that the commenter is requesting that we revise the cost impact estimate in this supplemental NPRM.

We acknowledge the figures submitted by the commenter and note that the estimated number of work hours and the parts cost have increased in Boeing Alert Service Bulletin MD80-29A070. We have revised the cost impact estimate in this supplemental NPRM accordingly. Also, after the proposed AD was issued, we reviewed the figures we have used over the past several years to calculate AD costs to operators. To account for various inflationary costs in the airline industry, we have increased the labor rate used in these calculations from $60 per work hour to $65 per work hour. The cost impact information, below, reflects this increase in the specified hourly labor rate.

Conclusion

Since certain changes discussed above expand the scope of the originally proposed rule, the FAA has determined that it is necessary to reopen the comment period to provide additional opportunity for public comment.

Cost Impact

There are approximately 1,063 airplanes of the affected design in the worldwide fleet. We estimate that 732 airplanes of U.S. registry would be affected by this proposed AD, that it would take up to 12 work hours per airplane to accomplish the proposed actions, and that the average labor rate is $65 per work hour. Required parts would cost up to $339 per airplane. Based on these figures, the cost impact of the proposed AD on U.S. operators is estimated to be up to $819,108, or up to $1,119 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations proposed herein would not have a substantial direct effect on the States, on the relationship between the National Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

McDonnell Douglas: Docket 2001-NM-387-AD.

Applicability: Model DC-9-81 (MD-81), DC-9-82 (MD-82), DC-9-83 (MD-83), DC-9-87 (MD-87), and MD-88 airplanes; certificated in any category; identified in Boeing Alert Service Bulletin MD80-29A070, dated August 3, 2004.

Compliance: Required as indicated, unless accomplished previously.

To prevent shorted wires or arcing at the auxiliary hydraulic pump, which could result in loss of auxiliary hydraulic power, or a fire in the wheel well of the airplane, accomplish the following:

One-Time Inspection

(a) Within 18 months after the effective date of this AD, do a one-time general visual inspection for chafing or signs of arcing of the wire bundle for the auxiliary hydraulic pump, and do all applicable corrective and other specified actions, in accordance with the Accomplishment Instructions of Boeing Alert Service Bulletin MD80-29A070, dated August 3, 2004. Accomplish any applicable corrective actions before further flight after the inspection.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Alternative Methods of Compliance

(b) In accordance with 14 CFR 39.19, the Manager, Los Angeles Aircraft Certification Office (ACO), FAA, is authorized to approve alternative methods of compliance for this AD.

Issued in Renton, Washington, on April 21, 2005.
Ali Bahrami,
Manager, Transport Airplane Directorate, Aircraft Certification Service.

[FR Doc. 05-8657 Filed 4-29-05; 8:45 am]

BILLING CODE 4910-13-P